DEPARTMENT OF TRANSPORTATION

Federal Aviation Administration

14 CFR Part 39

[Docket No. 2000-CE-58-AD]

RIN 2120-AA64

Airworthiness Directives; British Aerospace H.P. 137 Mk1, Jetstream Series 200, and Jetstream Model 3101 Airplanes

AGENCY: Federal Aviation Administration, DOT.

ACTION: Notice of proposed rulemaking (NPRM).

SUMMARY: This document proposes to supersede Airworthiness Directive (AD) 98-13-03, which currently requires repetitive inspections of the main landing gear (MLG) hinge fittings, support angles, and attachment bolts on British Aerospace H.P. 137 Mk1, Jetstream series 200, and Jetstream Model 3101 airplanes. This AD also requires eventual installation of improved design MLG hinge fittings as terminating action for the repetitive inspections of the hinge fittings and attachment bolts. This AD specifies repetitive inspections of the support angles for those airplanes with the approved design MLG hinge fittings installed. However, the applicability of AD 98-13-03 exempts those airplanes with the improved design MLG hinge fittings installed from the actions of the AD. The proposed AD would retain the requirements of AD 98-13-03 and would remove from the applicability the exemption of those airplanes with the improved design MLG hinge fittings installed. The actions specified by the proposed AD are intended to detect, correct, and prevent future fatigue cracking of the MLG, which could result in structural failure of the MLG and consequent loss of airplane control during takeoff, landing, or taxi operations.

DATES: The Federal Aviation Administration (FAA) must receive any comments on this rule on or before August 30, 2001.

ADDRESSES: Submit comments in triplicate to FAA, Central Region, Office of the Regional Counsel, Attention: Rules Docket No. 2000-CE-58-AD, 901 Locust, Room 506, Kansas City, Missouri 64106. Comments may be inspected at this location between 8 a.m. and 4 p.m., Monday through Friday, holidays excepted.

Service information that applies to the proposed AD may be obtained from British Aerospace Regional Aircraft, Prestwick International Airport, Ayrshire, KA9 2RW, Scotland; telephone: (01292) 479888; facsimile: (01292) 479703. This information also may be examined at the Rules Docket at the address above.

FOR FURTHER INFORMATION CONTACT: Mr. Doug Rudolph, Aerospace Engineer, FAA, Small Airplane Directorate, 901 Locust, Room 301, Kansas City, Missouri 64106; telephone: (816) 329-4059; facsimile: (816) 329-4090.

SUPPLEMENTARY INFORMATION:

Comments Invited

How Do I Comment on the Proposed AD?

The FAA invites comments on this proposed rule. You may submit whatever written data, views, or arguments you choose. You need to include the rule's docket number and submit your comments in triplicate to the address specified under the caption ADDRESSES. The FAA will consider all comments received on or before the closing date. We may amend the proposed rule in light of comments received. Factual information that supports your ideas and suggestions is extremely helpful in evaluating the effectiveness of the proposed AD action and determining whether we need to take additional rulemaking action.

Are There Any Specific Portions of the Proposed AD I Should Pay Attention to?

The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

We are re-examining the writing style we currently use in regulatory documents, in response to the Presidential memorandum of June 1, 1998. That memorandum requires federal agencies to communicate more clearly with the public. We are interested in your comments on whether the style of this document is clear, and any other suggestions you might have to improve the clarity of FAA communications that affect you. You can get more information about the Presidential memorandum and the plain language initiative at http://www.plainlanguage.gov.

How Can I Be Sure FAA Receives My Comment?

If you want us to acknowledge the receipt of your comments, you must include a self-addressed, stamped postcard. On the postcard, write “Comments to Docket No. 2000-CE-58-AD.” We will date stamp and mail the postcard back to you.

Discussion

Has FAA Taken Any Action on the Main Landing Gear (MLG) Hinge Fittings, Support Angles, and Attachment Bolts on British Aerospace H.P. 137 Mk1, Jetstream Series 200, and Jetstream Model 3101 Airplanes to This Point?

On June 8, 1998, FAA issued AD 98-13-03, Amendment 39-10591 (63 FR 33532, June 19, 1998). This AD currently requires the following on the above-referenced airplanes:

—Repetitive inspections of the MLG hinge fitting, support angles, and attachment bolts, and repairing or replacing any part that is cracked; and

—Eventual installation of improved design MLG hinge fittings, part number (P/N) 1379133B1 and 1379133B2 (Modification 5218), as terminating action for the repetitive inspections of the hinge fittings and attachment bolts. This AD specifies repetitive inspections of the support angles for those airplanes with the approved design MLG hinge fittings installed. However, the applicability of AD 98-13-03 exempts those airplanes with the improved design MLG hinge fittings installed from the actions of the AD.

Accomplishment of these actions is required in accordance with the following service information:

—British Aerospace Jetstream Mandatory Service Bulletin (MSB) No. 7/5, which includes procedures for inspecting the left and right main landing gear hinge attachment nuts to the auxiliary and aft spars for signs of relative movement between the nuts and hinge fitting on H.P. 137 MK1 and Jetstream series 200 airplanes. This MSB incorporates the following effective pages:

Pages | Revision level | Date
2 and 4 | Original Issue | March 31, 1982.
1 and 3 | Revision 1 | May 23, 1988.

—British Aerospace MSB No. 7/8, which includes procedures for inspecting the MLG hinge fitting for cracks, and repairing cracked hinge fittings on H.P. 137 MK1 and Jetstream series 200 airplanes. This MSB incorporates the following effective pages:

Pages | Revision level | Date
2, 5, 6, 7, and 8 | Revision 2 | January 6, 1983.
1, 3, and 4 | Revision 3 | May 23, 1988.

—Jetstream Alert Service Bulletin (ASB) 32-A-JA 850127, which includes procedures for inspecting the MLG hinge fitting and support angle for cracks on Jetstream Model 3101 airplanes. This ASB incorporates the following effective pages:

Pages | Revision level | Date
5 through 14 | Original Issue | April 17, 1985.
1 through 4 | Revision 2 | November 11, 1994.

—Jetstream Service Bulletin (SB) 57-JM 5218 which includes procedures for installing improved design MLG hinge fittings, P/N 1379133B1 and 1379133B2 (Modification 5218), on H.P. 137 Mk1, Jetstream series 200, and certain Jetstream Model 3101 airplanes. This SB incorporates the following effective pages:

Pages | Revision level | Date
3, 5, 6, 7, 8, 9, 11, 12, 17, 18, 19, 21, 22, 23, 24, 27, 28, 29, 30, and 31 | Revision 1 | September 29, 1987.
25 and 26 | Revision 2 | August 24, 1988.
10 and 20 | Revision 3 | January 29, 1990.
1, 2, 4, 13, 14, 15, and 16 | Revision 4 | October 31, 1990.

The actions of AD 98-13-03 are consistent with the FAA's aging commuter aircraft policy, which briefly states that, when a modification exists that could eliminate or reduce the number of required critical inspections, the modification should be incorporated. This policy is based on the FAA's determination that reliance on critical repetitive inspections on airplanes utilized in commuter service carries an unnecessary safety risk when a design change exists that could eliminate or, in certain instances, reduce the number of those critical inspections.

The alternative to installing improved design MLG hinge fittings would be to repetitively inspect this area for the life of the airplane.

What Has Happened Since AD 98-13-03 To Initiate This Action?

The applicability of AD 98-13-03 exempts those airplanes with the improved design MLG hinge fittings installed from the actions of the AD. The exemption of those airplanes with the improved design MLG hinge fittings installed should be removed and all affected airplanes should have the support angles repetitively inspected.

The FAA's Determination and Explanation of the Provisions of the Proposed AD. What Has FAA Decided?

After examining the circumstances and reviewing all available information related to the information described above, we have determined that:

—The unsafe condition referenced in this document exists or could develop on other British Aerospace H.P. 137 Mk1, Jetstream series 200, and Jetstream Model 3101 airplanes of the same type design;

—The repetitive inspections of the MLG support angles should be accomplished on all affected airplanes, even those with the improved design MLG hinge fittings installed; and

—AD action should be taken in order to detect, correct, and prevent future fatigue cracking of the MLG, which could result in structural failure of the MLG and consequent loss of airplane control during takeoff, landing, or taxi operations.

What Would the Proposed AD Require?

This proposed AD would supersede AD 98-13-03 with a new AD that would:

—Retain the requirements of repetitively inspecting the main landing gear (MLG) hinge fittings, support angles, and attachment bolts and repairing any cracked part;

—Require eventual installation of improved design MLG hinge fittings as terminating action for the repetitive inspections of the hinge fittings and attachment bolts; and

—Require repetitive inspections of the MLG support angles on all affected airplanes, even those with the improved design MLG hinge fittings installed.

Accomplishment of the proposed actions would be required in accordance with the previously-referenced service information.

Cost Impact

How Many Airplanes Would the Proposed AD Impact?

We estimate that the proposed AD affects up to 236 airplanes in the U.S. registry.

What Would Be the Cost Impact of the Proposed AD on Owners/Operators of the Affected Airplanes?

The FAA estimates that the proposed AD would affect 71 airplanes in the U.S. registry. We estimate the following costs to accomplish the proposed actions:

| Labor cost | Parts cost | Per airplane cost | Fleet cost
Initial Inspection | 61 workhours × $60 per hour = $3,660 | Not Applicable | $3,660 per airplane | 71 airplanes × $3,660 = $259,860.
Hinge Fitting Installation | 210 workhours × $60 per hour = $12,600 | British Aerospace will provide at no cost | 12,600 per airplane | 71 airplanes × $12,600 = $894,600.
Repetitive Support Angle Inspections | 10 workhours × $60 per hour = $600 per inspection | Not Applicable | 600 per airplane per inspection | 71 airplanes × $600 = $42,600 per inspection.

The cost figures presented above are the same as those presented in AD 98-13-03. The only additional impact the proposed AD would have is the repetitive support angle inspections on those airplanes with improved design hinge installations at the effective date of AD 98-13-03.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend 14 CFR part 39 of the Federal Aviation Regulations as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 98-13-03, Amendment 39-10591 (63 FR 33532, June 19, 1998), and by adding a new AD to read as follows:

British Aerospace: Docket No. 2000-CE-58-AD; Supersedes AD 98-13-03, Amendment 39-10591.

(a) What airplanes are affected by this AD? This AD affects the following model and serial number airplanes that are certificated in any category:

Model Serial | Nos.
HP137 Mk1 | All serial numbers.
Jetstream Series 200 | All serial numbers.
Jetstream 3101 | 601 through 695.

(b) Who must comply with this AD? Anyone who wishes to operate any of the above airplanes must comply with this AD.

(c) What problem does this AD address? The actions specified by the AD are intended to detect, correct, and prevent future fatigue cracking of the main landing gear (MLG), which could result in structural failure of the MLG and consequent loss of airplane control during takeoff, landing, or taxi operations.

Note 1: The compliance times of this AD are presented in landings. If you do not keep the total number of landings, then you may multiply the total number of airplane hours time-in-service (TIS) by 0.75.

(d) What actions must I accomplish to address this problem on the affected airplanes? To address this problem, accomplish the following:

Action | Compliance | Procedures
(1) For the H.P. 137 Mk1 and Jetstream 200 series airplanes, accomplish the following if part number (P/N) 1379133B1 (or FAA-approved equivalent P/N) and P/N 1379133B2 (or FAA-approved equivalent P/N) MLG hinge fittings are not installed: (i) Inspect the MLG hinge attachment nuts to auxiliary and aft spars on both the left and right MLG for signs of fuel leakage or signs of relative movement between the nuts and hinge fitting. (ii) If any signs of fuel leakage or relative movement between the nuts and hinge fitting are found during any inspection required by paragraph (d)(1)(i) of this AD, resecure the MLG hinge fitting to auxiliary spar. (iii) You may terminate the above inspections when improved design MLG hinge fittings, P/N 1379133B1 and 1379133B2, are installed. | Inspect within the next 50 landings after June 8, 1998 (the effective date of AD 98-13-03) or within 200 landings TIS after the last inspection required by AD 98-13-03, whichever occurs later, and thereafter at intervals not to exceed 200 landings. Resecure the MLG hinge fitting prior to further flight after the applicable inspection | Use the service information presented in paragraph (e)(1) of this AD.
(2) For all airplanes regardless of the MLG hinge fitting installed, inspect the MLG hinge support angles for cracks. If any crack(s) is/are found in the support angles, replace the cracked MLG hinge fitting(s) with a P/N 1379133B1 (or FAA-approved equivalent P/N) or P/N 1379133B2 (or FAA-approved equivalent P/N) fitting. | Inspect upon accumulating 4,000 landings on the MLG fitting or within the next 50 hours TIS after the effective date of this AD, whichever occurs later, unless already accomplished, and thereafter at intervals not to exceed 400 hours TIS. Accomplish any necessary replacement prior to further flight after the inspection where the cracked support angle(s) is/are found | Inspect in accordance with the service information presented in paragraph (e)(2) or (e)(3) of this AD, as applicable. Replace in accordance with the service information presented in paragraph (e)(4) of this AD.
(3) For all airplanes, install improved design MLG hinge fittings, P/N 1379133B1 (or FAA-approved equivalent P/N) and P/N 1379133B2 (or FAA-approved equivalent P/N). (i) Incorporating both P/N 1379133B1 (or FAA-approved equivalent P/N) and P/N 1379133B2 MLG (or FAA-approved equivalent P/N) hinge fittings terminates the repetitive inspection requirement of paragraphs (d)(1)(i) and (d)(1)(ii) of this AD. (ii) The repetitive inspections of the MLG support angles required by paragraph (d)(2) of this AD are still required. | Upon accumulating 20,000 landings on each MLG hinge fitting or within the next 50 landings after June 8, 1998 (the effective date of AD 98-13-03), whichever occurs later, unless already accomplished | In accordance with the service information presented in paragraph (e)(4) of this AD.
(4) Do not install, on any affected airplane, MLG hinge fittings that are not P/N 1379133B1 (or FAA-approved equivalent P/N) or P/N 1379133B2 (or FAA-approved equilvalent P/N). | As of the effective date of this AD | Not Applicable.

(e) What service information applies to this AD? You must accomplish the actions of this AD in accordance with the following service bulletins:

(1) British Aerospace Jetstream Mandatory Service Bulletin No. 7/5, which applies to the affected H.P. 137 MK1 and Jetstream series 200 airplanes and incorporates the following pages:

Pages | Revision level | Date
2 and 4 | Original Issue | March 31, 1982.
1 and 3 | Revision 1 | May 23, 1988.

(2) British Aerospace Mandatory Service Bulletin No. 7/8, which applies to the affected H.P. 137 MK1 and Jetstream series 200 airplanes and incorporates the following effective pages:

Pages | Revision level | Date
2, 5, 6, 7, and 8 | Revision 2 | January 6, 1983.
1, 3, and 4 | Revision 3 | May 23, 1988.

(3) Jetstream Alert Service Bulletin 32-A-JA 850127, which applies to the affected Jetstream Model 3101 airplanes and incorporates the following effective pages:

Pages | Revision level | Date
5 through 14 | Original Issue | April 17, 1985.
1 through 4 | Revision 2 | November 11, 1994.

(4) Jetstream Service Bulletin 57-JM 5218, which applies to all of the affected airplanes and incorporates the following effective pages:

Pages | Revision level | Date
3, 5, 6, 7, 8, 9, 11, 12, 17, 18, 19, 21, 22, 23, 24, 27, 28, 29, 30, and 31 | Revision 1 | September 29, 1987.
25 and 26 | Revision 2 | August 24, 1988.
10 and 20 | Revision 3 | January 29, 1990.
1, 2, 4, 13, 14, 15, and 16 | Revision 4 | October 31, 1990.

(f) Can I comply with this AD in any other way?

(1) You may use an alternative method of compliance or adjustment of the compliance time if:

(i) Your alternative method of compliance provides an equivalent level of safety; and

(ii) The Manager, Small Airplane Directorate, approves your alternative. Submit your request through an FAA Principal Maintenance Inspector, who may add comments and then send it to the Manager, Small Airplane Directorate.

(2) Alternative methods of compliance approved in accordance with AD 98-13-03, which is superseded by this AD, are approved as alternative methods of compliance with this AD.

Note 2: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if you have not eliminated the unsafe condition, specific actions you propose to address it.

(g) Where can I get information about any already-approved alternative methods of compliance? Contact Mr. Doug Rudolph, Aerospace Engineer, FAA, Small Airplane Directorate, 901 Locust, Room 301, Kansas City, Missouri 64106; telephone: (816) 329-4059; facsimile: (816) 329-4090.

(h) What if I need to fly the airplane to another location to comply with this AD? The FAA can issue a special flight permit under sections 21.197 and 21.199 of the Federal Aviation Regulations (14 CFR 21.197 and 21.199) to operate your airplane to a location where you can accomplish the requirements of this AD.

(i) How do I get copies of the documents referenced in this AD? You may obtain copies of the documents referenced in this AD from British Aerospace Regional Aircraft, Prestwick International Airport, Ayrshire, KA9 2RW, Scotland; telephone: (01292) 479888; facsimile: (01292) 671715. You may examine these documents at FAA, Central Region, Office of the Regional Counsel, 901 Locust, Room 506, Kansas City, Missouri 64106.

(j) Does this AD action affect any existing AD actions? This amendment supersedes AD 98-13-03, Amendment 39-10591.

Issued in Kansas City, Missouri, on July 11, 2001.
Michael K. Dahl,
Acting Manager, Small Airplane Directorate, Aircraft Certification Service.

[FR Doc. 01-17866 Filed 7-17-01; 8:45 am]

BILLING CODE 4910-13-U